ENVIRONMENTAL PROTECTION AGENCY

[ER-FRL-6655-1]

Environmental Impact Statements; Notice of Availability

Responsible Agency: Office of Federal Activities, General Information (202) 564-7167 or http://www.epa.gov.compliance/nepa/.

Weekly receipt of Environmental Impact Statements Filed August 16, 2004 Through August 20, 2004 Pursuant to 40 CFR 1506.9.

EIS No. 040394, Draft EIS, AFS, ID, Red Pines Project, Proposes to Implement Fuel Reduction Activities and Improve the Range of Watershed Activities, Nez Perce National Forest, Red River Ranger District, Idaho County, ID, Comment Period Ends: October 12, 2004, Contact: Ester Hutchison (209) 983-1950.

EIS No. 040395, Draft Supplement, TPT, CA, Presidio Trust Public Health Service Hospital (PUSH or Building 1801) at the Presidio of San Francisco (Area B) of Presidio Trust Management Plan, To Rehabilitate and Reuse Buildings, Gold Gate National Recreation Area, San Francisco Bay, Marin County, CA, Comment Period Ends: October 12, 2004, Contact: John Pelka (415) 561-5300. This document is available on the Internet at: http//www.presidio.gov.

EIS No. 040396, Draft EIS, FRA, CA, Los Angeles—To—San Diego (LOSSAN) Rail Corridor, Proposed Rail Corridor Improvement Studies to Increase Intercity Travel for Faster, Safer and Reliable Passenger Rail System, Los Angeles, Orange and San Diego Counties, CA, Comment Period Ends: October 27, 2004, Contact: David Valenstein (202) 493-6368.

EIS No. 040397, DRAFT EIS, SFW, CA, Bair Island Restoration and Management Plan, Restore Tidal Action to 1,400 Acres of Former Salt Ponds, Don Edwards San Francisco Bay National Wildlife Refuge, Bair Island State Ecological Reserve, South San Francisco Bay, San Mateo County, CA, Comment Period Ends: October 12, 2004, Contact: Clyde Morris (510) 792-0222.

EIS No. 040398, Final Supplement, EPA, MS, FL, AL, Eastern Gulf of Mexico Offshore Oil and Gas Extraction, Updated Information on Issuance of New National Pollutant Discharge Elimination System General Permit and the Ocean Discharge Criteria Evaluation, MS, AL and FL, Wait Period Ends: September 7, 2004, Contact: Lena Scott (404) 562-9607.

EIS No. 040399, Draft EIS, AFS, OR, ID, WA, CA, Pacific Northwest Region Invasive Plant Program, Preventing and Managing Invasive Plants, Implementation, OR, WA, Including Portions of Del Norte and Siskiyou Counties, CA and Portions of Nez Perce, Salmon, Idaho and Adam Counties, ID,Comment Period Ends: November 24, 2004, Contact: Eugene Skrine (503) 808-2685.

EIS No. 040400, Final EIS, DOE, WA, BP Cherry Point Cogeneration Project, To Build a 720-megawatt Gas-Fired Combined Cycle Cogeneration Facility, Energy Facility Site Evaluation Council (EFSEC), Whatcom County, WA, Wait Period Ends: September 7, 2004, Contact: Thomas E. McKinney (503) 230-4749. This document is available on the Internet at: http://www.efsec.wa.gov.

EIS No. 040401, Final EIS, EPA, FL, Palm Beach Harbor Ocean Dredged Material Disposal Site and the Port Everglades Harbor Ocean Dredged Material Disposal Site, Designation, FL, Wait Period Ends: September 7, 2004, Contact: Christopher McArthur (404) 562-9391. This document is available on the Internet at: http://www.epa.gov/region4/water/oceans/proposed_sites.htm.

EIS No. 040402, Revised Draft EIS, IBR, CA, NV, Truckee River Operating Agreement (TROA) Modify Operations of Five Federal and Two Non-Federal Reservoirs to Facilitate Distribution of Water, Truckee River Basin, EL Dorado, Nevada, Placer and Sierra Counties, CA and Douglas, Lyon, Storey and Washoe Counties, NV, Comment Period Ends: October 29, 2004, Contact: Kenneth Parr (775) 882-3436.

EIS No. 040403, Final Supplemental, NOA, FL, MS, TX, AL, LA, Reef Fish Fishery Management Plan Amendment 22, To Set Red Snapper Sustainable Fisheries Act Targets and Thresholds, Set a Rebuilding Plan, and Establish Bycatch Reporting Methodologies for the Reef Fish Fishery, Gulf of Mexico, Wait Period Ends: September 7, 2004, Contact: Roy E. Crabtree (727) 570-5305. This document is available on the Internet at: http://www.gulfcouncil.org.

EIS No. 040404, Draft EIS, NOA, WA, CA, OR, 2005-2006 Pacific Coast Groundfish Fishery, Proposed Acceptable Biological Catch and Optimum Yield Specifications and Management Measures, WA, OR and CA, Comment Period Ends: October 12, 2004, Contact: D. Robert Lohn (206) 526-6150. This document is available on the Internet at: http://www.pcouncil.org.

EIS No. 040405, Draft EIS, NOA, HI, Seabird Interaction Mitigation Methods, To Reduce Interaction with Seabird in Hawaii-Based Longline Fishery and Pelagic Squid Fishery Management, To Establish an Effective Management Framework for Pelagic Squid Fisheries, Fishery Management Plan, Pelagic Fisheries of the Western Pacific Region, Exclusive Economic Zone of the U.S. and High Sea, Comment Period Ends: October 12, 2004, Contact: Tom Graham (808) 973-2937.

Amended Notices

EIS No. 040276, Final EIS, FAA, MN, Flying Cloud Airport Expansion, Extensions of the Runway 10R/28L and 10L/28R, Long-Term Comprehensive Development, In the City of Eden Prairie, MN, Wait Period Ends: September 1, 2004, Contact: Glen Orcult (612) 713-4354. Revision of FR Notice Published on 6/18/04: CEQ Comment Period Ending 8/17/2004 has been Extended to 9/1/2004.

Dated: August 27, 2004.
Robert W. Hargrove,
Division Director, NEPA Compliance Division, Office of Federal Activities.

[FR Doc. 04-19618 Filed 8-26-04; 8:45 am]

BILLING CODE 6560-50-P